DEPARTMENT OF LABOR

Employment and Training Administration

[TA-W-53,299]

Cannon-ITT Industries, Santa Ana, CA; Notice of Termination of Investigation

Pursuant to section 221 of the Trade Act of 1974, as amended, an investigation was initiated on October 20, 2003 in response to a petition filed by a company official on behalf of workers at Cannon-ITT Industries, Santa Ana, California.

The petitioner has requested that the petition be withdrawn. Consequently, the investigation has been terminated.

Signed at Washington, DC this 24th day of October, 2003.
Richard Church,
Certifying Officer, Division of Trade Adjustment Assistance.

[FR Doc. 03-30086 Filed 12-2-03; 8:45 am]

BILLING CODE 4510-30-P